DEPARTMENT OF ENERGY

Federal Energy Regulatory Commission

[Docket No. ER03-93-000, et al.]

Tampa Electric Company, et al., Electric Rate and Corporate Filings

May 27, 2003.

The following filings have been made with the Commission. The filings are listed in ascending order within each docket classification.

1. Tampa Electric Company, Florida Power Corporation

[Docket No. EC03-93-000]

Take notice that on May 23, 2003, Tampa Electric Company (Tampa Electric) and Florida Power Corporation, d/b/a Progress Energy Florida, Inc. (Florida Power) tendered for filing a joint application requesting authorization under section 203 of the Federal Power Act for the transfer by Tampa Electric to Florida Power of a 2.75-mile-long segment of transmission line located in Polk County, Florida.

Comment Date: June 13, 2003.

2. NRG Power Marketing Inc.

[Docket No. ER02-2463-003]

Take notice that on May 22, 2003, NRG Power Marketing Inc., (NRG) tendered for filing an affidavit and accompanying rate model showing cost data specific to Devon Unit Nos. 7, 8 and 10 that support the proposed rates under the Reliability Agreement, dated August 8, 2002, between ISO New England Inc., and Devon Power LLC.

Comment Date: June 12, 2003.

3. Southern California Edison Company

[Docket No. ER03-142-003]

Take notice that on May 22, 2003, Southern California Edison Company (SCE) tendered for filing with the Federal Energy Regulatory Commission (Commission) in compliance with the Commission's “Order on Compliance and Rehearing” issued on May 12, 2003, in Docket Nos. ER03-142-001 and ER03-142-002, certain documents supporting its position in this proceeding that Reliability Service costs are not included in any transmission service rates paid by Existing Transmission Contract customers.

SCE states that copies of this filing were served upon the parties listed on the Commission's official Service List in this proceeding.

Comment Date: June 12, 2003.

4. Public Service Company of New Hampshire

[Docket No. ER03-569-001]

Take notice that on May 22, 2003, Northeast Utilities Service Company (NUSCO), on behalf of its affiliate Public Service Company of New Hampshire (PSNH), filed a compliance filing regarding Original Service Agreement No. 95 by and between PSNH and AES Londonderry, LLC (AES) under Northeast Utilities System Companies' Open Access Transmission Tariff No. 9. NUSCO states that a copy of this filing has been mailed to AES.

Comment Date: June 12, 2003.

5. Deseret Generation & Transmission Co-operative, Inc.

[Docket No. ER03-856-001]

Take notice that on May 22, 2003, Deseret Generation & Transmission Co-operative, Inc., submitted a correction to its informational filing that was filed in Docket No. ER03-856-000 on May 19, 2003.

Comment Date: June 12, 2003.

6. New England Power Pool

[Docket No. ER03-864-000]

Take notice that on May 19, 2003, New England Power Pool (NEPOOL) tendered for filing with the Federal Energy Regulatory Commission (Commission) an informational filing to notify the Commission that as of May 15, 2003, NEPOOL, ISO New England Inc. (the ISO) and NRG Power Marketing Inc. (NRG Power), acting on behalf of itself and several affiliates (the NRG Affiliates and, together with NRG Power, the NRG Participants), entered into an extension of the Weekly Billing Agreement dated November 15, 2002, that implemented a weekly billing and prepayment schedule for the NRG Participants.

The NEPOOL Participants Committee states that copies of these materials were served on the governors and electric utility regulatory agencies for the six New England states. In addition, all NEPOOL Participants Committee members have been furnished with an electronic copy of this filing.

Comment Date: June 9, 2003.

7. ICPM, Inc.

[Docket No. ER03-865-000]

Take notice that on May 22, 2003, ICPM, Inc. (ICPM) tendered for filing with the Federal Energy Regulatory Commission (Commission) a notice of cancellation, pursuant to 18 CFR 35.15, giving notice of cancellation of its market-based electric tariff filed with the Commission.

Comment Date: June 12, 2003.

8. NDR Energy Group LLC

[Docket No. ER03-866-000]

Take notice that on May 22, 2003, NDR Energy Group, LLC (NDR) tendered for filing a petition for acceptance of NDR Rate Schedule FERC No. 1, the granting of certain blanket approvals, including the authority to sell electricity at market-based rates; and the waiver of certain Commission regulations.

Comment Date: June 12, 2003.

9. PJM Interconnection, L.L.C.

[Docket No. ER03-867-000]

Take notice that on May 22, 2003, PJM Interconnection, L.L.C. (PJM), submitted for filing an interconnection service agreement (ISA) among PJM, PPL Susquehanna L.L.C. and PPL Electric Utilities Corporation.

PJM requests a waiver of the Commission's 60-day notice requirement to permit an April 24, 2003, effective date for the ISA. PJM states that copies of this filing were served upon the parties to the agreements and the state regulatory commissions within the PJM region.

Comment Date: June 12, 2003.

10. Ameren Energy Marketing Company

[Docket No. ER03-868-000]

Take notice that on May 22, 2003, Ameren Energy Marketing Company (AEM) submitted for filing a power sales agreement pursuant to which AEM will sell energy to Central Illinois Light Company (AmerenCILCO). AEM requests an effective date of June 1, 2003.

AEM states that copies of this filing have been served on AmerenCILCO and on all affected state commissions.

Comment Date: June 12, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-13989 Filed 6-3-03; 8:45 am]

BILLING CODE 6717-01-P